DEPARTMENT OF THE INTERIOR

Bureau of Land Management

[LLNV912000 L10100000.PH0000 LXSS0006F0000; 12-08807; MO#4500048585; TAS: 14X1109]

Notice of Public Meetings: Mojave-Southern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Mojave-Southern Great Basin Resource Advisory Council (RAC), will hold three meetings in Nevada in fiscal year 2013. The meetings are open to the public.

DATES AND TIMES: March 21-22 in Las Vegas, Nevada, location to be determined; July 11 in Las Vegas, Nevada, location to be determined; and Sept. 12 via video teleconference. Meeting times will be published in local and regional media sources at least 14 days before each meeting. All meetings will include a public comment period.

FOR FURTHER INFORMATION CONTACT: Chris Hanefeld, Public Affairs Specialist, Ely District Office, 702 North Industrial Way, HC 33 Box 33500, Ely, NV 89301, telephone: (775) 289-1842, email: chanefel@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion at each meeting will include, but are not limited to:

• March 21-22 (Las Vegas)—Southern Nevada Public Land Management Act (SNPLMA), Battle Mountain District and Southern Nevada District resource management plans, and permitted recreation (date of field trip to be determined).

• July 11 (Las Vegas)—Energy and transmission, Battle Mountain District and Southern Nevada District resource management plans, and permitted recreation.

• September 12 (video teleconference)—Energy and transmission, and desert tortoise.

Managers' reports of field office activities will be given at each meeting. The Council may raise other topics at the meetings.

Final agendas will be posted on-line at the BLM Mojave-Southern Great Basin RAC Web site at http://www.blm.gov/nv/st/en/res/resource_advisory.html and will be published in local and regional media sources at least 14 days before each meeting.

Individuals who need special assistance such as sign language interpretation or other reasonable accommodations, or who wish to receive a copy of each agenda, may contact Chris Hanefeld no later than 10 days prior to each meeting.

Erica Haspiel-Szlosek,
Chief, Office of Communications.

[FR Doc. 2013-04504 Filed 2-26-13; 8:45 am]

BILLING CODE 4310-HC-P